DEPARTMENT OF HOUSING AND URBAN DEVELOPMENT

[Docket No. FR-4975-N-38]

Notice of Proposed Information Collection: Comment Request; Mortgagee's Certification of Fees and Escrow and Surety Bond Against Defects

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: January 20, 2006.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410, or Wayne_Eddins@hud.gov.

FOR FURTHER INFORMATION CONTACT: Joe E. Malloy, Acting Director, Office of Multifamily Housing Development, Department of Housing and Urban Development, 451 7th Street, SW., Washington, DC 20410, telephone (202) 708-1142, extension 2524 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Mortgagee's Certification of Fees and Escrow and Surety Bond Against Defects.

OMB Control Number, if applicable: 2502-0468.

Description of the need for the information and proposed use: HUD requires the mortgagee to submit Form HUD 2434, Mortgagee's Certificate, to assure that fees are within acceptable limits and the required escrows will be collected. HUD determines the reasonableness of the fees and uses the information in calculating the financial requirement for closing. The information is also used to determine allowable fees that will be collected from the mortgagor at closing. HUD requires that Form HUD-3259 be submitted on all construction projects. This bond protects HUD and the mortgagor against liens arising from the development of the project and unprofessional construction.

Agency form numbers, if applicable: HUD-2434 and HUD-3259.

Estimation of the total numbers of hours needed to prepare the information collection based on the number of respondents, frequency of response, and hours of response: The estimated total number of burden hours needed to prepare the information collection is 1,071; the number of respondents is 1,020, generating approximately 1,020 annual responses; the frequency of response is on occasion; and the estimated time needed to prepare the response varies from .30 to .75 hours per form.

Status of the proposed information collection: This is an extension of a currently approved collection.

Authority: The Paperwork Reduction Act of 1995, 44 U.S.C., Chapter 35, as amended.

Frank L. Davis,
General Deputy Assistant Secretary for Housing-Deputy Federal Housing Commissioner.

[FR Doc. E5-6393 Filed 11-18-05; 8:45 am]

BILLING CODE 4210-27-P